DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of six additional entities and ten additional individuals whose property and interests in property have been blocked pursuant to the Foreign Narcotics Kingpin Designation Act (“Kingpin Act”) (21 U.S.C. 1901-1908, 8 U.S.C. 1182).

DATES: The designation by the Secretary of the Treasury of the six entities and ten individuals identified in this notice pursuant to section 805(b) of the Kingpin Act is effective on October 2, 2008.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on-demand service, tel.: (202) 622-0077.

Background

The Kingpin Act became law on December 3, 1999. The Act provides a statutory framework for the President to impose sanctions against significant foreign narcotics traffickers and their organizations on a worldwide basis, with the objective of denying their businesses and agents access to the U.S. financial system and to the benefits of trade and transactions involving U.S. companies and individuals.

The Kingpin Act blocks all property and interests in property subject to U.S. jurisdiction which are owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On October 2, 2008, OFAC designated an additional six entities and ten individuals whose property and interests in property are blocked pursuant to section 805(b) of the Foreign Narcotics Kingpin Designation Act.

The list of additional designees follows:

Entities

1. AMERICAN TUNE UP, S.A. DE C.V., Guadalajara, Jalisco, Mexico; Registration ID MAT 46-47 TOMO 460 L. (Mexico); (ENTITY) [SDNTK]

2. FARMACIA JERLYNE, S.A. DE C.V. (a.k.a. FARMACIA JARLYNE, S.A. DE C.V.; a.k.a. FARMACIA JARLINE, S.A. DE C.V.; a.k.a. FARMACIAS JERLYNE, S.A. DE C.V.); Buenaventura 391, Fraccionamiento Chapultepec, Tijuana, Baja California, Mexico; Avenida Benito Juarez 2020-8, Colonia Zona Centro, Tijuana, Baja California, Mexico; Cascadas 100-2, Colonia Las Huertas, Tijuana, Baja California, Mexico; Lot 18, Sector 21, Centro Urbano 70-76, Colonia Mesa de Otay, Baja California, Mexico; Lot 70, Sector 6, Colonia Jardines de Chapultepec, Baja California, Mexico; Lots 13, 14, Sector A, Rancho El Grande, Baja California, Mexico; Avenida Revolucion 2020, Tijuana, Baja California 22000, Mexico; (ENTITY) [SDNTK]

3. LABORATORIOS WILLMAR, S.A. DE C.V., Calle Esteban Loera 481, Colonia Beatriz Hernandez, Guadalajara, Jalisco 44760, Mexico; Calle Esteban Loera No. 481, Colonia Zona Obrera, Guadalajara, Jalisco 44760, Mexico; Los Placeres No. 1030, Colonia Chapalita, Guadalajara, Jalisco 44100, Mexico; R.F.C. LW1760923BT6 (Mexico); (ENTITY) [SDNTK]

4. PRODUCTOS FARMACEUTICOS COLLINS, S.A. DE C.V. (a.k.a. GRUPO COLLINS; a.k.a. GRUPO FARMACEUTICO COLLINS; a.k.a. LABORATORIOS COLLINS); Avenida Lopez Mateos No. 1938, Colonia Agua Blanca, Zapopan, Jalisco 45070, Mexico; Pedro de Alacron No. 167, Zapopan, Jalisco, Mexico; Cipres No. 1677, Colonia Del Fresno, Guadalajara, Jalisco 44900, Mexico; Calle Vicente Guerrero 337, Colonia Agua Blanca, Zapopan, Jalisco 44008, Mexico; Prolongacion Lopez Mateos 1938, Colonia Agua Blanca, Zapopan, Jalisco 45070, Mexico; Calle Agua Prieta 1100, Colonia Agua Blanca, Zapopan, Jalisco 44008, Mexico; Puerto Soto La Marina 1632 A, Guadalajara, Jalisco 44330, Mexico; R.F.C. PFC8301273D1 (Mexico); (ENTITY) [SDNTK]

5. SALUD NATURAL MEXICANA, S.A. DE C.V., Alvaro Obregon 250, Colonia Agua Blanca, Zapopan, Jalisco 45235, Mexico; Avenida Inglaterra #3109, Guadalajara, Jalisco 44500, Mexico; R.F.C. SNM-950403-FA5 (Mexico); (ENTITY) [SDNTK]

6. LOMEDIC, S.A. DE C.V. (a.k.a. MEDIC EXPRESS, S.A. DE C.V.); Av. del Parque #489, Col. San Andres, Guadalajara, Jalisco 44810, Mexico; R.F.C. LOM-990211-KQ2 (Mexico); (ENTITY) [SDNTK]

Individuals

1. ALVAREZ VAZQUEZ, Jose Gerardo (a.k.a. ZALDIVAR VEGA, Javier; a.k.a. SANCHEZ SALAMANCA, Salvador; a.k.a. ALVAREZ VASQUEZ, Jose Gerardo; a.k.a. ALVAREZ ALVAREZ, Gerardo; a.k.a. ALVAREZ VASQUEZ, Joel; a.k.a. ALVAREZ VELASQUEZ, Jose Gerardo; a.k.a. “El Indio”; a.k.a. “El Gera”); c/o AMERICAN TUNE UP, S.A. DE C.V., Guadalajara, Jalisco, Mexico; Avenida Gonzalez Gallo #2537, Sector Reforma, Guadalajara, Jalisco, Mexico; DOB 03 Nov 1963; Alt. DOB 24 Sep 1965; Alt. DOB 10 May 1966; POB Las Avilas, Guerrero, Mexico; Citizen Mexico; Nationality Mexico; (INDIVIDUAL) [SDNTK]

2. AMEZCUA CONTRERAS, Adan (a.k.a. MANZANO, Jose Luis); Carlos Chavez 5, Colima, Colima, Mexico; Francisco I. Madero 749, Colonia Moralete, Colima, Colima, Mexico; Toreros No. 672, Colonia Jardines de Guadalupe, Guadalajara, Jalisco, Mexico; Belizario Dominguez, No. 511, Colima, Colima, Mexico; Calle General Juan Alvarez 1010, Colonia Lomas Vista Hermosa, Colima, Colima, Mexico; DOB 27 Jun 1969; Citizen Mexico; Nationality Mexico; R.F.C. AECA-690627 (Mexico); (INDIVIDUAL) [SDNTK]

3. AMEZCUA CONTRERAS, Patricia (a.k.a. AMEZCUA DE LADINO, Patricia; a.k.a. AMEZCUA CONTRERAS, Patty); c/o FARMACIA JERLYNE, S.A. DE C.V., Tijuana, Baja California, Mexico; Calle Jesus Ponce 1083, Colonia Jardin Vista Hermosa, Colima, Colima, Mexico; DOB 18 Mar 1967; Citizen Mexico; Nationality Mexico; R.F.C. AECP-670318 (Mexico); C.U.R.P. AECP670318MJCMNT07 (Mexico); (INDIVIDUAL) [SDNTK]

4. LADINO AVILA, Jaime Arturo (a.k.a. COLOSIO, Vincente; a.k.a. CONTREAS, Miguel Angel; a.k.a. “El Ojon”; a.k.a. “Fayo”); c/o GRUPO ROLA S.A. DE C.V., Colima, Colima, Mexico; Calle Jesus Ponce 1083, Colonia Jardin Vista Hermosa, Colima, Colima, Mexico; DOB 24 Jul 1964; Alt. DOB 26 Aug 1962; Alt. DOB 13 Nov 1964; Citizen Mexico; Nationality Mexico; R.F.C. LAAJ640724 (Mexico); C.U.R.P. LAAJ640724HCMDVM07 (Mexico); (INDIVIDUAL) [SDNTK]

5. TIRADO ESCAMILLA, Telesforo Baltazar (a.k.a. TIRADO ESCAMILLA, Telesforo Baltasar; a.k.a. TIRADO MARTINEZ, Baltazar); c/o PRODUCTOS FARMACEUTICOS COLLINS, S.A. DE C.V., Zapopan, Jalisco, Mexico; Maya 3290, Guadalajara, Jalisco, Mexico; Rinconada Del Tulipan 3485, Guadalajara, Jalisco, Mexico; Calle Mallas 3278, Guadalajara, Jalisco, Mexico; DOB 10 Jan 1939; Alt. DOB 09 Jan 1939; POB Nayarit, Mexico; Citizen Mexico; Nationality Mexico; C.U.R.P. TIET390110HNTRSL04 (Mexico); (INDIVIDUAL) [SDNTK]

6. PULIDO VALDIVIA, Javier (a.k.a. PULIDO VALDIVIA, Francisco); c/o LABORATORIOS WILLMAR, S.A. DE C.V., Guadalajara, Jalisco, Mexico; Mexico; Calle Fray Junipero Serra #1932, Colonia Jardines Alcalde, Guadalajara, Jalisco, Mexico; DOB 14 Jan 1953; Citizen Mexico; Nationality Mexico; C.U.R.P. PUVJ530114HJCLLV06 (Mexico); (INDIVIDUAL) [SDNTK]

7. TIRADO DIAZ, Rolando, c/o PRODUCTOS FARMACEUTICOS COLLINS, S.A. DE C.V., Zapopan, Jalisco, Mexico; DOB 28 Mar 1971; POB Jalisco, Mexico; Citizen Mexico; Nationality Mexico; C.U.R.P. TIDR710328HJCRZL02 (Mexico); (INDIVIDUAL) [SDNTK]

8. TIRADO DIAZ, Luis Alfonso, c/o PRODUCTOS FARMACEUTICOS COLLINS, S.A. DE C.V., Zapopan, Jalisco, Mexico; DOB 20 Jul 1968; POB Jalisco, Mexico; Citizen Mexico; Nationality Mexico; C.U.R.P. TIDL680720HJCRZS04 (Mexico); (INDIVIDUAL) [SDNTK]

9. LOMELI BOLANOS, Carlos, c/o LOMEDIC, S.A. DE C.V., Guadalajara, Jalisco, Mexico; DOB 05 Aug 1959; POB Guadalajara, Mexico; Citizen Mexico; Nationality Mexico; C.U.R.P. LOBC590805HJCMLR02 (Mexico); (INDIVIDUAL) [SDNTK]

10. RENDON POBLETE, Rosalinda (a.k.a. RENDON DE PULIDO, Rosalinda); c/o LABORATORIOS WILLMAR, S.A. DE C.V., Guadalajara, Jalisco, Mexico; DOB 23 Nov 1953; POB Cuahutla, Morelos, Mexico; Citizen Mexico; Nationality Mexico; (INDIVIDUAL) [SDNTK]

Dated: October 2, 2008.
Adam J. Szubin,
Director, Office of Foreign Assets Control.

[FR Doc. E8-24011 Filed 10-8-08; 8:45 am]

BILLING CODE 4811-45-P